DEPARTMENT OF COMMERCE

[Docket No. 111115680-2197-02]

Privacy Act System of Records

AGENCY: U.S. Census Bureau, Department of Commerce.

ACTION: Notice of amended Privacy Act System of Records: COMMERCE/CENSUS-6, Population Census Records for 1910 and All Subsequent Decennial Censuses.

SUMMARY: In order to update the system of records the Department of Commerce publishes this notice to announce the effective date of an amended Privacy Act System of Records titled, “COMMERCE/CENSUS-6, Population Census Records for 1910 and All Subsequent Decennial Censuses.” The notice of proposed amendment to this system of records was published in the Federal Register on January 26, 2012 (77 FR 4000).

ADDRESSES: For a copy of the system of records please mail requests to: Chief Privacy Officer, Privacy Office, Room HQ-8H115, U.S. Census Bureau, Washington, DC 20233-3700.

FOR FURTHER INFORMATION CONTACT: Chief Privacy Officer, Privacy Office, Room HQ-8H115, U.S. Census Bureau, Washington, DC 20233-3700, 301-763-6560.

SUPPLEMENTARY INFORMATION: On January 26, 2012, the Department of Commerce published and requested comments on proposed amendments to the Privacy Act System of Records titled, “COMMERCE/CENSUS-6, Population Census Records for 1910 and All Subsequent Decennial Censuses.” The amendment serves to generally update the system of records by updating certain provisions concerning the safeguards for records in the system, updating system manager information, and address and minor administrative updates. No comments were received in response to the request for comments. By this notice, the Department informs the public that it adopts the proposed system as final without changes effective March 27, 2012.

Dated: March 21, 2012.
Jonathan R. Cantor,
Chief Privacy Officer, U.S. Department of Commerce.

[FR Doc. 2012-7301 Filed 3-26-12; 8:45 am]

BILLING CODE 3510-07-P